DEPARTMENT OF HOMELAND SECURITY

Federal Emergency Management Agency

44 CFR Part 67

[Docket ID FEMA-2014-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding Source(s) | Location of Referenced Elevation | * Elevation in feet (NGVD) + Elevation in feet (NAVD) # Depth in feet above ground ‸ Elevation in meters (MSL) Modified | Communities affected
Schuylkill County, Pennsylvania (All Jurisdictions)
Docket No.: FEMA-B-1145
Good Spring Creek | Approximately 1,580 feet upstream of Locust Street | +810 | Township of Frailey.
| Approximately 977 feet upstream of Spruce Street | +815
Little Schuylkill River | Approximately 1,750 feet downstream of the State Route 895 bridge | +548 | Township of East Brunswick.
| At the upstream side of the railroad bridge | +560
Mahanoy Creek | Approximately 0.71 mile upstream of Rice Road | +781 | Township of Butler.
| Approximately 560 feet upstream of the railroad bridge | +811
Schuylkill River | Approximately 1,349 feet upstream of Mount Carbon Arch Road | +594 | Borough of Mechanicsville, Borough of Palo Alto.
| Approximately 100 feet upstream of Coal Street | +631
Schuylkill River | An area bound by a point approximately 31 feet south of State Route 209; a point approximately 618 feet south of State Route 209; and a point approximately 639 feet southwest of State Route 209 | +722 | Borough of Middleport.
Schuylkill River | An area bound by a point approximately 475 feet northwest of State Route 209; a point approximately 472 feet northeast of State Route 209; and a point approximately 367 feet south of State Route 209 | +733 | Borough of Middleport.
Schuylkill River | Approximately 0.5 mile downstream of Franklin Street | +747 | Township of Schuylkill.
| Approximately 0.4 mile downstream of Franklin Street | +748
West Branch Schuylkill River | Approximately 1,582 feet upstream of East Sunbury Street | +702 | Township of Branch, Township of New Castle, Township of Norwegian.
| Approximately 169 feet upstream of the intersection of Greenbury Road and State Route 4002 | +848
* National Geodetic Vertical Datum.
+ North American Vertical Datum.
# Depth in feet above ground.
‸ Mean Sea Level, rounded to the nearest 0.1 meter.
ADDRESSES
Borough of Mechanicsville
Maps are available for inspection at the Mechanicsville Borough Hall, 1342 Pottsville Street, Pottsville, PA 17901.
Borough of Middleport
Maps are available for inspection at the Borough Hall, 27 Washington Street, Middleport, PA 17953.
Borough of Palo Alto
Maps are available for inspection at the Borough Hall, 142 East Bacon Street, Palo Alto, PA 17901.
Township of Branch
Maps are available for inspection at the Branch Township Municipal Building, 25 Carnish Street, Pottsville, PA 17901.
Township of Butler
Maps are available for inspection at the Butler Township Municipal Building, 211 Broad Street, Ashland, PA 17921.
Township of East Brunswick
Maps are available for inspection at the East Brunswick Township Municipal Building, 55 West Catawissa Street, New Ringgold, PA 17960.
Township of Frailey
Maps are available for inspection at the Frailey Township Municipal Building, 23 Maryland Street, Donaldson, PA 17981.
Township of New Castle
Maps are available for inspection at the New Castle Township Municipal Building, 248-250 Broad Street, Saint Clair, PA 17970.
Township of Norwegian
Maps are available for inspection at the Norwegian Township Municipal Building, 506 Maple Avenue, Mar Lin, PA 17951.
Township of Schuylkill
Maps are available for inspection at the Schuylkill Township Municipal Building, 675 Walnut Street, Mary-D, PA 17952.

(Catalog of Federal Domestic Assistance No. 97.022, “Flood Insurance.”)

Dated: July 11, 2014.
Roy E. Wright,
Deputy Associate Administrator for Mitigation, Department of Homeland Security, Federal Emergency Management Agency.

[FR Doc. 2014-18251 Filed 7-31-14; 8:45 am]

BILLING CODE 9110-12-P